DEPARTMENT OF COMMERCE

Foreign-Trade Zones Board

[Docket 17-2008]

Foreign-Trade Zone 50—Port of Long Beach; Expansion of Subzone 50I; Ultramar Inc.; Wilmington, CA

An application has been submitted to the Foreign-Trade Zones Board (the Board) by the Port of Long Beach, grantee of FTZ 50, requesting authority to expand the subzone and the scope of manufacturing activity conducted under zone procedures within Subzone 50I at the refinery owned by Valero Energy Corporation subsidiary Ultramar Inc. in Wilmington, California. The application was submitted pursuant to the provisions of the Foreign-Trade Zones Act, as amended (19 U.S.C. 81a-81u), and the regulations of the Board (15 CFR part 400). It was formally filed on March 21, 2008.

Subzone 50I (557 employees) was approved by the Board on August 23, 2002 for the manufacture of fuel products and certain petrochemical feedstocks (Board Order 1244, 67 FR 56983, 9/6/02). The subzone currently consists of three sites (140 acres total): Site 1 (137 acres, 120,000 BPD refinery and 3.1 million barrel storage capacity) is located at 2402 East Anaheim Street, in the Wilmington area of Los Angeles; Site 2 (three tanks, 1.1 million barrel storage capacity), at the Pacific Terminals, Dominguez Hills storage facility, located at 2500 East Victoria St. in Compton, some 5.5 miles from the refinery; and Site 3 (one tank, 180,000 barrel capacity) at the Pacific Terminals, Long Beach Terminal storage facility, located at 2685 Seaside Blvd., Long Beach, some 1.4 miles from the refinery.

The applicant is now requesting authority to expand the subzone to include an additional site (proposed Site 4) at the Wilmington Asphalt Plant. The proposed site (41 employees) consists of 6.4 acres and is located at 1651 Alameda in Wilmington, California, approximately 1.6 miles from the main refinery complex. The addition of the site would increase the overall crude distillation capacity of the refinery to 126,000 BPD. No additional feedstocks or products have been requested.

Zone procedures would exempt production at the proposed site from customs duty payments on the foreign products used in its exports. On domestic sales, the company would be able to choose the customs duty rates for certain petrochemical feedstocks (duty-free) by admitting foreign crude oil in non-privileged foreign status. The application indicates that the savings from zone procedures would help improve the refinery's international competitiveness.

In accordance with the Board's regulations, Elizabeth Whiteman of the FTZ staff is designated examiner to investigate the application and report to the Board.

Public comment is invited from interested parties. Submissions (original and 3 copies) shall be addressed to the Board's Executive Secretary at the address below. The closing period for their receipt is June 2, 2008. Rebuttal comments in response to material submitted during the foregoing period may be submitted during the subsequent 15-day period to June 16, 2008.

A copy of the application and accompanying exhibits will be available for public inspection at each of the following locations:

U.S. Department of Commerce Export Assistance Center, 51 11150 West Olympic Boulevard, Suite 975, Los Angeles, CA 90064.

Office of the Executive Secretary, Foreign-Trade Zones Board, U.S. Department of Commerce, Room 2111, 1401 Constitution Ave. NW., Washington, DC 20230.

For further information, contact Elizabeth Whiteman at Elizabeth_Whiteman@ita.doc.gov or (202) 482-0473.

Dated: March 21, 2008.
Andrew McGilvray,
Executive Secretary.

[FR Doc. E8-6704 Filed 3-31-08; 8:45 am]

BILLING CODE 3510-DS-P